DEPARTMENT OF LABOR

Employment and Training Administration

[TA-W-64,415]

St. Louis Music a Division of LOUD Technologies, Inc., St. Louis, MO; Notice of Termination of Investigation

Pursuant to Section 221 of the Trade Act of 1974, as amended, an investigation was initiated on November 13, 2008 in response to a petition filed by a company official on behalf of the workers at St. Louis Music, a Division of LOUD Technologies, Inc., St. Louis, Missouri.

The petitioner has requested that the petition be withdrawn. Consequently, the investigation has been terminated.

Signed at Washington, DC this 11th day of December 2008.
Linda G. Poole,
Certifying Officer, Division of Trade Adjustment Assistance.

[FR Doc. E8-29929 Filed 12-17-08; 8:45 am]

BILLING CODE 4510-FN-P